DEPARTMENT OF HEALTH AND HUMAN SERVICES

National Institutes of Health

Office of Biotechnology Activities, Office of Science Policy, Office of the Director; Notice of Meeting

Pursuant to section 10(a) of the Federal Advisory Committee Act, as amended (5 U.S.C. App.), notice is hereby given of the meeting of the National Science Advisory Board for Biosecurity (NSABB).

Name of Committee: National Science Advisory Board for Biosecurity.

Date: June 23, 2011.

Time: 8:30 a.m. to 4 p.m. Eastern Daylight Time (Times are approximate and subject to change)

Agenda: Presentations and discussions regarding: (1) Update of Federal activities relevant to the mission of the NSABB; (2) review of proposed NSABB Culture of Responsibility Working Group Draft Report: “Guidance for Enhancing Personnel Reliability and Strengthening the Culture of Responsibility at the Local Level” and NSABB Outreach and Education Working Group Draft Report: “Strategies to Educate Non-Traditional Audiences about Dual Use Research in the Life Sciences: Amateur Biologists and Scientists in Non-Life Science Disciplines;” (3) update on activities of NSABB Working Groups on Codes of Conduct; International Engagement; and Journal Review Policies; (4) planning for future NSABB meetings and activities; and (5) other business of the Board.

Place: National Institutes of Health, Building 31, Center Drive, 6th Floor, Conference Room 6, Bethesda, Maryland 20892.

Contact Person: Ronna Hill, NSABB Program Assistant, NIH Office of Biotechnology Activities, 6705 Rockledge Drive, Suite 750, Bethesda, Maryland 20892, (301) 496-9838, hillro@od.nih.gov.

Under authority 42 U.S.C. 217a, Section 222 of the Public Health Service Act, as amended, the Department of Health and Human Services established the NSABB to provide advice, guidance and leadership regarding federal oversight of dual use research, defined as biological research that generates information and technologies that could be misused to pose a biological threat to public health and/or national security.

The meeting will be open to the public, however pre-registration is strongly recommended due to space limitations. Persons planning to attend should register online at: http://oba.od.nih.gov/biosecurity/biosecurity_meetings.html or by calling Palladian Partners, Inc. (Contact: Joel Yaccarino at 301-650-8660). Individuals who plan to attend and need special assistance, such as sign language interpretation or other reasonable accommodations, should indicate these requirements upon registration.

This meeting will also be webcast. To access the webcast, as well as the draft meeting agenda and pre-registration information, connect to: http://oba.od.nih.gov/biosecurity/biosecurity_meetings.html. Please check this site for updates.

Any member of the public interested in presenting oral comments relevant to the mission of the NSABB at the meeting should notify the Contact Person listed on this notice. Interested individuals and representatives of an organization may submit a letter of intent, a brief description of the organization represented, and the short description of the oral presentation. Only one representative of an organization will be permitted to present oral comments. Both printed and electronic copies are requested for the record. In addition, any interested person may file written comments relevant to the mission of the NSABB. All written comments should include the name, address, telephone number and when applicable, the business or professional affiliation of the interested person.

Dated: May 12, 2011.
Jennifer S. Spaeth,
Director, Office of Federal Advisory Committee Policy.

[FR Doc. 2011-12269 Filed 5-17-11; 8:45 am]

BILLING CODE 4140-01-P